DEPARTMENT OF HOMELAND SECURITY

Federal Emergency Management Agency

[Docket ID FEMA-2016-0002; Internal Agency Docket No. FEMA-B-1610]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 26, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1610, to Rick Sacbibit, Chief, Engineering Services Branch, Federal Insurance and Mitigation Administration, FEMA, 500 C Street SW., Washington, DC 20472, (202) 646-7659, or (email) patrick.sacbibit@fema.dhs.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: April 12, 2016.
Roy E. Wright,
Deputy Associate Administrator for Insurance and Mitigation, Department of Homeland Security, Federal Emergency Management Agency.

I. Watershed-based studies:

Community | Community map repository address
Upper Sangamon River Watershed
Maps Available for Inspection Online at: http://www.fema.gov/preliminaryfloodhazarddata
Macon County, Illinois, and Incorporated Areas
City of Decatur | City Hall, 1 Gary K. Anderson Plaza, Decatur, IL 62523.
Unincorporated Areas of Macon County | Macon County Office Building, 141 South Main Street Decatur, IL 62523.
Village of Forsyth | Village Hall, 301 South Route 51, Forsyth, IL 62535.

II. Non-watershed-based studies:

Community | Community map repository address
Mendocino County, California and Incorporated Areas
Maps Available for Inspection Online at: http://www.fema.gov/preliminaryfloodhazarddata
Project: 15-09-0493S Preliminary Date: August 28, 2015
City of Willits | City Planning Department, 111 East Commercial Street, Willits, CA 95490.
Unincorporated Areas of Mendocino County | Planning Department, 860 North Bush Street, Ukiah, CA 95482.
Mendocino County, California and Incorporated Areas
Maps Available for Inspection Online at: http://www.fema.gov/preliminaryfloodhazarddata
Project: 11-09-0848S Preliminary Date: September 14, 2015
City of Fort Bragg | Community Development Department, 416 North Franklin Street, Fort Bragg, CA 95437.
City of Point Arena | City Hall, 451 School Street, Point Arena, CA 95468.
Unincorporated Areas of Mendocino County | Planning Department, 860 North Bush Street, Ukiah, CA 95482.
Placer County, California and Incorporated Areas
Maps Available for Inspection Online at: http://www.fema.gov/preliminaryfloodhazarddata
Project: 11-09-0868S Preliminary Date: December 28, 2015
City of Auburn | Planning and Public Works Department, 1225 Lincoln Way, Auburn, CA 95603.
City of Lincoln | Engineering Department, 600 Sixth Street, Lincoln, CA 95648.
City of Rocklin | Engineering Department, 3970 Rocklin Road, Rocklin, CA 95677.
City of Roseville | Engineering Department, 311 Vernon Street, Roseville, CA 95678.
Town of Loomis | Town Hall, 3665 Taylor Road, Loomis, CA 95650.
Unincorporated Areas of Placer County | Placer County Public Works and Facilities, 3091 County Center Drive, Auburn, CA 95603.
Gladwin County, Michigan (All Jurisdictions)
Maps Available for Inspection Online at: http://www.fema.gov/preliminaryfloodhazarddata
Project:12-05-2231S Preliminary Date: March 27, 2015
City of Beaverton | 124 West Brown Street, Beaverton, MI 48612.
City of Gladwin | 1000 West Cedar Avenue, Gladwin, MI 48624.
Township of Beaverton | 4496 Dale Road, Beaverton, MI 48612.
Township of Billings | 1050 Estey Road, Beaverton, MI 48612.
Township of Bourret | 2749 School Road, Alger, MI 48610.
Township of Buckeye | 1498 South Hockaday Road, Beaverton, MI 48624.
Township of Butman | 5005 North Hockaday Road, Gladwin, MI 48624.
Township of Clement | 1497 E M-30, Alger, MI 48610.
Township of Gladwin | 2001 Wagarville Road, Gladwin, MI 48624.
Township of Grout | 1490 South Grout Road, Gladwin, MI 48624.
Township of Hay | 1220 East Highwood Road, Beaverton, MI 48612.
Township of Sage | 1831 North Pratt Lake Road, Gladwin, MI 48624.
Township of Secord | 1507 Secord Dam Road, Gladwin, MI 48624.
Township of Sherman | 4013 Oberlin Road, Gladwin, MI 48624.
Township of Tobacco | 1826 Dale Road, Beaverton, MI 48612.
Houston County, MN and Incorporated Areas
Maps Available for Inspection Online at: http://www.fema.gov/preliminaryfloodhazarddata
Project:11-05-1551S Preliminary Dates: December 31, 2014 & January 15, 2016
City of Brownsville | City Hall, 104 North 6th Street, Brownsville, MN 55919.
City of Caledonia | City Hall, 231 East Main Street, Caledonia, MN 55921.
City of Hokah | City Hall, 102 Main Street, Hokah, MN 55941.
City of Houston | City Hall, 105 West Maple Street, Houston, MN 55943.
City of La Crescent | City Hall, 315 Main Street, La Crescent, MN 55947.
City of Spring Grove | City Hall, 118 First Avenue Northwest, Spring Grove, MN 55974.
Township of La Crescent | Township Hall, 830 Town Hall Road, La Crescent, MN 55947.
Unincorporated Areas of Houston County | Houston County Courthouse, 304 South Marshall Street, Caledonia, MN 55921.
Fairfield County, Ohio and Incorporated Areas
Maps Available for Inspection Online at: http://www.fema.gov/preliminaryfloodhazarddata
Project:14-05-9584S Preliminary Date: January 4, 2016
City of Lancaster | City Building Department, 121 East Chestnut Street, Lancaster, OH 43130.
City of Pickerington | City Hall, 51 East Columbus Street, Pickerington, OH 43147.
Unincorporated Areas of Fairfield County | Fairfield County Administrative Courthouse, 210 East Main Street, Lancaster, OH 43130.

[FR Doc. 2016-09820 Filed 4-26-16; 8:45 am]

BILLING CODE 9110-12-P